DEPARTMENT OF THE INTERIOR

National Park Service

[NPS-WASO-NAGPRA-NPS0038159; PPWOCRADN0-PCU00RP14.R50000]

Notice of Inventory Completion: New York State Office of Parks, Recreation, & Historic Preservation, Waterford, NY

AGENCY: National Park Service, Interior.

ACTION: Notice.

SUMMARY: In accordance with the Native American Graves Protection and Repatriation Act (NAGPRA), the New York State Office of Parks, Recreation, & Historic Preservation (NYOPRHP) has completed an inventory of human remains and has determined that there is no lineal descendant and no Indian Tribe or Native Hawaiian organization with cultural affiliation.

DATES: Upon request, repatriation of the human remains in this notice may occur on or after July 29, 2024.

ADDRESSES: Jessica Vavrasek, New York State Office of Parks, Recreation & Historic Preservation, Peebles Island State Park, P.O. Box 189, Waterford, NY 12188-0189, telephone (518) 268-2199, email Jessica.Vavrasek@parks.ny.gov.

SUPPLEMENTARY INFORMATION: This notice is published as part of the National Park Service's administrative responsibilities under NAGPRA. The determinations in this notice are the sole responsibility of the NYOPRHP, and additional information on the determinations in this notice, including the results of consultation, can be found in its inventory or related records. The National Park Service is not responsible for the determinations in this notice.

Abstract of Information Available

Human remains representing, at least, one individual has been identified. No associated funerary objects are present. A suspected Native American scalp was discovered during periotic cleaning of 80+ year old exhibit dedicated to Dan Beard located within Bear Mountain State Park. The scalp was discovered within a riker box inside of a cardboard box with “Indian Scalp” written on the outside in pencil. This box was buried at the bottom of a chest of Mr. Beard's personal items that had been on display since the 1940's. No information is available as to where, when, or how it was acquired by Mr. Beard prior to his death and eventual donation of the scalp to the park.

Consultation

Invitations to consult were sent to the Delaware Nation, Oklahoma; Delaware Tribe of Indians; and Stockbridge Munsee Community, Wisconsin. The Delaware Nation, Oklahoma; Delaware Tribe of Indians; and Stockbridge Munsee Community, Wisconsin. All responded yes to NYOPRHP's request for consultation on this matter with all three Nations agreeing that the Stockbridge Munsee Community, Wisconsin, would take the lead during this consultation.

Cultural Affiliation

The following types of information about the cultural affiliation of the human remains in this notice are available: geographical, and historical. The information, including the results of consultation, identified:

1. No earlier group connected to the human remains;

2. No Indian Tribe or Native Hawaiian organization connected to the human remains; and

3. No relationship of shared group identity between the earlier group and the Indian Tribe or Native Hawaiian organization that can be reasonably traced through time.

Determinations

The NYOPRHP has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after July 29, 2024. If competing requests for repatriation are received, the NYOPRHP must determine the most appropriate requestor prior to repatriation. Requests for joint repatriation of the human remains are considered a single request and not competing requests. The NYOPRHP is responsible for sending a copy of this notice to any consulting lineal descendant, Indian Tribe, or Native Hawaiian organization.

Authority: Native American Graves Protection and Repatriation Act, 25 U.S.C. 3003, and the implementing regulations, 43 CFR 10.10.

Dated: June 14, 2024.
Mariah Soriano,
Acting Manager, National NAGPRA Program.

[FR Doc. 2024-14101 Filed 6-26-24; 8:45 am]

BILLING CODE 4312-52-P